NATIONAL AERONAUTICS AND SPACE ADMINISTRATION

48 CFR Parts 1827, 1835 and 1852

Submission of Final Reports under NASA Research and Development Contracts

AGENCY: National Aeronautics and Space Administration (NASA).

ACTION: Final rule.

SUMMARY: This final rule revises the report submission requirements under NASA research and development (R&D) contracts and clarifies that contractors cannot release these final reports until NASA has completed its Document Availability Authorization (DAA) review and the availability of the report has been determined.

EFFECTIVE DATE: July 21, 2000.

FOR FURTHER INFORMATION CONTACT: Celeste Dalton, NASA Headquarters Office of Procurement, Contract Management Division (Code HK), Washington, DC, 20546, (202) 358-1645.

SUPPLEMENTARY INFORMATION:

A. Background

A proposed rule was published in the Federal Register on April 18, 2000 (65 FR 20791-92). No comments were received. This final rule adopts the proposed rule without change. NASA's Center for AeroSpace Information (CASI) serves as a repository of NASA scientific and technical information (STI). This includes information developed under NASA-sponsored research and development efforts. The NFS currently requires that copies of the final report and other progress reports under R&D contracts be submitted to CASI. The need for other progress reports no longer exists. Copies of only the final report required under an R&D contract must be submitted to CASI. Before NASA STI is made available, it is subject to a NASA Document Availability Authorization (DAA) review and release determination. Contractors cannot release final reports resulting from NASA R&D contracts until NASA has completed its Document Availability Authorization (DAA) review (NASA Form 1676).

B. Regulatory Flexibility Act

NASA certifies that this final rule will not have a significant economic impact on a substantial number of small entities within the meaning of the Regulatory Flexibility Act (5 U.S.C. 601 et seq.) because it only affects small business entities whose R&D contracts required progress reporting.

C. Paperwork Reduction Act

The Paperwork Reduction Act does not apply because the changes to the NFS do not impose any new record keeping or information collection requirements which require the approval of the Office of Management and Budget under 44 U.S.C. 3501, et seq.

List of Subjects in 48 CFR Parts 1827, 1835 and 1852

Government procurement.

Tom Luedtke,
Associate Administrator for Procurement.

Accordingly, 48 CFR Parts 1827, 1835, and 1852 are amended as follows:

1. The authority citation for 48 CFR Parts 1827, 1835, and 1852 continues to read as follows:

Authority: 42 U.S.C. 2473 (c)(1).

PART 1827—PATENTS, DATA, AND COPYRIGHTS

2. Revise section 1827.406-70 to read as follows:

1827.406-70 Reports of work.

(a) When considered necessary for monitoring contract performance, contracting officers must require contractors to furnish reports of work performed under research and development contracts (fixed-price and cost reimbursement), interagency agreements, or in cost-reimbursement supply contracts. This purpose may be achieved by including the following general requirements, modified as needed to meet the particular requirements of the contract, in the section of the contract specifying data delivery requirements:

(1) Monthly progress reports. Reports should be in narrative form, brief, and informal. They should include a quantitative description of progress, an indication of any current problems that may impede performance, proposed corrective action, and a discussion of the work to be performed during the next monthly reporting period. (Normally, this requirement should not be used in contracts with nonprofit organizations.)

(2) Quarterly progress reports. In addition to factual data, these reports should include a separate analysis section interpreting the results obtained, recommending further action, and relating occurrences to the ultimate objectives of the contract. Sufficient diagrams, sketches, curves, photographs, and drawings should be included to convey the intended meaning.

(3) Final report. This report should summarize the results of the entire contract, including recommendations and conclusions based on the experience and results obtained. The final report should include tables, graphs, diagrams, curves, sketches, photographs, and drawings in sufficient detail to explain comprehensively the results achieved under the contract. The final report must comply with NPG 2200.2A, Guidelines for Documentation, Approval, and Dissemination of NASA Scientific and Technical Information.

(4) Report Documentation Page. The final report must include a completed Report Documentation Page, Standard Form (SF) 298 as the final page of the report.

(b) The contracting officer must consider the desirability of providing reports on the completion of significant units or phases of work, in addition to periodic reports and reports on the completion of the contract.

(c) Submission of final report. In addition to the original of the final report submitted to the contracting officer, contracts containing the clause at 1852.235-70, Center for AeroSpace Information—Final Scientific and Technical Reports (see 1835.070(a)), must require the concurrent submission of a reproducible copy and a printed or reproduced copy of the final report to the NASA Center for AeroSpace Information (CASI).

(d) NASA review of final report. When required by the contract, final reports submitted to NASA for review, shall be reviewed for technical accuracy, conformance with applicable law, policy and publication standards, and to determine the availability and distribution of NASA-funded documents containing scientific and technical information (STI) (NASA Form 1676, NASA Scientific and Technical Document Availability Authorization (DAA)). The final report must not be released outside of NASA until NASA's DAA review has been completed and the availability of the document has been determined. The document is considered available when it is accessible through CASI.

PART 1835—RESEARCH AND DEVELOPMENT CONTRACTING

3. In section 1835.070, revise paragraph (a) to read as follows:

1835.070 NASA contract clauses and solicitation provision.

(a) The contracting officer must insert the clause at 1852.235-70, Center for AeroSpace Information—Final Scientific and Technical Reports, in all research and development contracts, interagency agreements, and in cost-reimbursement supply contracts involving research and development work.

* * * * *

PART 1852—SOLICITATION PROVISIONS AND CONTRACT CLAUSES

4. Revise section 1852.235-70 to read as follows:

1852.235-70 Center for AeroSpace Information—Final Scientific and Technical Reports.

As prescribed in 1835.070(a), insert the following clause:

Center for Aerospace Information—Final Scientific and Technical Reports July 2000

(a) The Contractor should register with and avail itself of the services provided by the NASA Center for AeroSpace Information (CASI) (http://www.sti.nasa.gov) for the conduct of research or research and development required under this contract. CASI provides a variety of services and products as a central NASA repository of research information, which may enhance contract performance. The address is set out in paragraph (d) of this clause.

(b) Should the CASI information or service requested by the Contractor be unavailable or not in the exact form necessary by the Contractor, neither CASI nor NASA is obligated to search for or change the format of the information. A failure to furnish information shall not entitle the Contractor to an equitable adjustment under the terms and conditions of this contract.

(c) In addition to the final report, as defined at 1827.406-70(a)(3), submitted to the contracting officer, a reproducible copy and a printed or reproduced copy of the final report or data shall be concurrently submitted to: Center for AeroSpace Information (CASI), Attn: Document Processing Section, 7121 Standard Drive, Hanover, Maryland 21076-1320, Phone: 301-621-0390, FAX: 301-621-0134.

(d) The last page of the final report submitted to CASI shall be a completed Standard Form (SF) 298, Report Documentation Page. In addition to the copy of the final report, the contractor shall provide, to CASI, a copy of the letter transmitting the final report to NASA for its Document Availability Authorization (DAA) review.

(e) The contractor shall not release the final report, outside of NASA, until the DAA review has been completed by NASA and availability of the report has been determined.

(End of clause)

[FR Doc. 00-18388 Filed 7-20-00; 8:45 am]

BILLING CODE 7510-01-P